DEPARTMENT OF COMMERCE

International Trade Administration

[A-552-801]

Certain Frozen Fish Fillets From the Socialist Republic of Vietnam: Final Results of Antidumping Duty New Shipper Reviews; 2011-2012

AGENCY: Import Administration, International Trade Administration, Department of Commerce.

SUMMARY: On January 30, 2013, the Department of Commerce (“the Department”) published in the Federal Register the preliminary results of four new shipper reviews of the antidumping duty order on certain frozen fish fillets (“frozen fish fillets”) from the Socialist Republic of Vietnam (“Vietnam”).¹ The period of review (“POR”) is August 1, 2011, through January 31, 2012. We provided interested parties an opportunity to comment on the Preliminary Results and, based upon our analysis of the comments and information received, we made changes to the margin calculation for the final results of these new shipper reviews. The final weighted-average margins are listed below in the “Final Results of Review” section of this notice.

¹ See Certain Frozen Fish Fillets From the Socialist Republic of Vietnam: Preliminary Results of Antidumping Duty New Shipper Reviews; 2011-2012, 78 FR 6297 (January 30, 2013) (“Preliminary Results”).

DATES: Effective Date: July 2, 2013.

FOR FURTHER INFORMATION CONTACT: Jerry Huang, Seth Isenberg or Toni Dach, AD/CVD Operations, Office 9, Import Administration, International Trade Administration, Department of Commerce, 14th Street and Constitution Avenue NW., Washington, DC 20230; telephone: (202) 482-4047, (202) 482-0588, and (202) 482-1655, respectively.

SUPPLEMENTARY INFORMATION:

Background

On January 30, 2013, the Department published the Preliminary Results of these new shipper reviews.² We invited interested parties to comment on the Preliminary Results.³ As a result of our analysis, we have made changes to the Preliminary Results.

² See id.

³ See id. at 6297.

Scope of the Order

The merchandise subject to the order is frozen fish fillets, including regular, shank, and strip fillets and portions thereof, whether or not breaded or marinated, of the species Pangasius Bocourti, Pangasius Hypophthalmus (also known as Pangasius Pangasius), and Pangasius Micronemus. The products are currently classifiable under the Harmonized Tariff Schedule of the United States (“HTSUS”) subheadings 1604.19.4000, 1604.19.5000, 0305.59.4000, 0304.29.6033 (Frozen Fish Fillets of the species Pangasius including basa and tra). Although the HTSUS subheadings are provided for convenience and customs purposes, the written description of the scope of the order remains dispositive.⁴

⁴ See “Certain Frozen Fish Fillets from the Socialist Republic of Vietnam: Issues and Decision Memorandum for Antidumping Duty New Shipper Reviews; 2010-2011,” dated concurrently with this notice (“Issues and Decision Memorandum”) and incorporated herein by reference, for a complete description of the Scope of the Order.

Analysis of Comments Received

All issues raised in the case and rebuttal briefs by parties in these reviews are addressed in the Issues and Decision Memorandum. A list of the issues which parties raised is attached to this notice as Appendix I. The Issues and Decision Memorandum is a public document and is on file in the Central Records Unit (“CRU”), Room 7046 of the main Department of Commerce building, as well as electronically via Import Administration's Antidumping and Countervailing Duty Centralized Electronic Service System (“IA ACCESS”). IA ACCESS is available to registered users at http://iaaccess.trade.gov and in the CRU. In addition, a complete version of the Issues and Decision Memorandum can be accessed directly on the internet at http://www.trade.gov/ia/. The signed Issues and Decision Memorandum and the electronic versions of the Issues and Decision Memorandum are identical in content.

Changes Since the Preliminary Results

Based on a review of the record and comments received from interested parties regarding our Preliminary Results, we have made certain revisions to the margin calculations for all respondents. For the reasons explained in the Issues and Decision Memorandum at Comment I, we have now selected Indonesia as the primary surrogate country. We have also made other changes to the margin calculations of certain respondents.⁵ Finally, the surrogate values memorandum contains the further explanation of our changes to the surrogate values.⁶

⁵ See accompanying Issues and Decision Memorandum at Comments VIII and XVII and the company-specific analysis memoranda, dated concurrently with this notice.

⁶ See Memorandum to the File, through Scot T. Fullerton, Program Manager, Office 9, from Seth Isenberg, Case Analyst, “Certain Frozen Fish Fillets from the Socialist Republic of Vietnam: Surrogate Values for the Final Results,” dated concurrently with this notice.

Final Results of Review

The weighted-average dumping margins for the new shipper reviews are as follows:

Exporter | Producer | Weighted-average margin (dollars per kilogram)
Quang Minh Seafood Co., Ltd. | Quang Minh Seafood Co., Ltd | 2.96
Dai Thanh Seafoods Company Limited | Dai Thanh Seafoods Company Limited | 1.20
Fatifish Company Limited | Fatifish Company Limited | 0.59
Hoang Long Seafood Processing Co., Ltd | Hoang Long Seafood Processing Co., Ltd | 0.70

Assessment

Pursuant to section 751(a)(2)(A) of the Tariff Act of 1930, as amended (“the Act”), and 19 CFR 351.212(b), the Department will determine, and U.S. Customs and Border Protection (“CBP”) shall assess, antidumping duties on all appropriate entries of subject merchandise in accordance with the final results of this review. The Department intends to issue appropriate assessment instructions directly to CBP 15 days after publication of the final results of this administrative review. The Department announced a refinement to its assessment practice in non-market economy (“NME”) cases.⁷ Pursuant to this refinement in practice, for entries that were not reported in the U.S. sales databases submitted by companies individually examined during this review, the Department will instruct CBP to liquidate such entries at the NME-wide rate. In addition, if the Department determines that an exporter under review had no shipments of the subject merchandise, any suspended entries that entered under that exporter's case number (i.e., at that exporter's rate) will be liquidated at the NME-wide rate.⁸

⁷ See Non-Market Economy Antidumping Proceedings: Assessment of Antidumping Duties, 76 FR 65694 (October 24, 2011).

⁸ See id.

For assessment purposes, we calculated importer (or customer)-specific assessment rates for merchandise subject to this review. We will continue to direct CBP to assess importer-specific assessment rates based on the resulting per-unit (i.e., per-kilogram) rates by the weight in kilograms of each entry of the subject merchandise during the POR. Specifically, we calculated importer-specific duty assessment rates on a per-unit rate basis by dividing the total dumping margins (calculated as the difference between normal value and export price, or constructed export price) for each importer by the total sales quantity of subject merchandise sold to that importer during the POR. We will instruct CBP to assess antidumping duties on all appropriate entries covered by this review if any importer-specific assessment rate calculated in the final results of this review is above de minimis. Where either the respondent's weighted-average dumping margin is zero or de minimis, or an importer-specific assessment rate is zero or de minimis, we will instruct CBP to liquidate the appropriate entries without regard to antidumping duties.

Cash Deposit Requirements

The following cash deposit requirements will be effective upon publication of the final results of these new shipper reviews for all shipments of the subject merchandise from Vietnam entered, or withdrawn from warehouse, for consumption on or after the publication date, as provided for by section 751(a)(2)(C) of the Act: (1) For subject merchandise produced and exported by respondents listed above, the cash deposit rate will be the rates established in the final results of these new shipper reviews. If the cash deposit rate calculated in the final results is zero or de minimis, no cash deposit will be required for the specific producer-exporter combination listed above; (2) for subject merchandise exported by respondents, but not manufactured by respondents, the cash deposit rate will continue to be the Vietnam-wide rate (i.e., $2.11/Kilogram); and (3) for subject merchandise manufactured by respondents, but exported by any other party, the cash deposit rate will be the rate applicable to the exporter. The cash deposit requirement, when imposed, shall remain in effect until further notice.

Reimbursement of Duties

This notice also serves as a final reminder to importers of their responsibility under 19 CFR 351.402(f)(2) to file a certificate regarding the reimbursement of antidumping duties prior to liquidation of the relevant entries during this POR. Failure to comply with this requirement could result in the Department's presumption that reimbursement of antidumping duties has occurred and the subsequent assessment of doubled antidumping duties.

Administrative Protective Order

In accordance with 19 CFR 351.305(a)(3), this notice also serves as a reminder to parties subject to administrative protective order (“APO”) of their responsibility concerning the return or destruction of proprietary information disclosed under the APO, which continues to govern business proprietary information in this segment of the proceeding. Timely written notification of the return or destruction of APO materials, or conversion to judicial protective order, is hereby requested. Failure to comply with the regulations and terms of an APO is a violation subject to sanction.

We are issuing and publishing these new shipper reviews and notice in accordance with sections 751(a)(1) and 777(i) of the Act.

Dated: June 24, 2013.
Paul Piquado,
Assistant Secretary for Import Administration.

Appendix I—Issues & Decision Memorandum

GENERAL ISSUES:

COMMENT I: Selection of the Surrogate Country

A. Economic Comparability

B. Significant Producer of the Comparable Merchandise

C. Data Considerations

COMMENT II: Surrogate Financial Ratios

COMMENT III: Surrogate Value for Labor

COMMENT IV: Surrogate Value for Rice Husk

COMMENT V: Surrogate Value for Inland Freight

COMMENT VI: Surrogate Value for By-products

COMMENT VII: Zeroing

COMPANY-SPECIFIC ISSUES:

COMMENT VIII: Valuation of Dathaco and Fatifish's River Water

COMMENT IX: Valuation of Hoang Long's Other By-Products

[FR Doc. 2013-15882 Filed 7-1-13; 8:45 am]

BILLING CODE 3510-DS-P